DEPARTMENT OF THE INTERIOR

National Park Service

Decision Notice and Finding of No Significant Impact (FONSI) for the Proposal To Rehabilitate the Bridge Over the North Entrance to Ronald Reagan Washington National Airport on the George Washington Memorial Parkway, Virginia

AGENCY: National Park Service.

ACTION: Availability of the Decision Notice and FONSI for the proposal to Rehabilitate the Bridge over the North Entrance to Ronald Reagan Washington National Airport on the George Washington Memorial Parkway, Virginia.

SUMMARY: Pursuant to Council on Environmental Quality regulations and National Park Service policy, the National Park Service (NPS) announces the availability of the Decision Notice and FONSI for the Rehabilitation of the Bridge over the North Entrance to Ronald Reagan Washington National Airport. The Decision Notice and FONSI identifies Alternative B as selected by the NPS for action. It is the preferred and environmentally preferred alternative in the Environmental Assessment. Under this alternative, the NPS, in cooperation with the Federal Highway Administration, will rehabilitate the historic bridge over the north entrance to Ronald Reagan Washington National Airport on the George Washington Memorial Parkway (GWMP). The rehabilitation of the bridge includes the replacement of the bridge decking, replacement of guardrails and railings, and construction of a shoulder extension to realign the Mount Vernon Trail. The shoulder extension and trail realignment will allow the NPS to spatially and physically separate trail users from northbound traffic on the GWMP.

DATES: The Environmental Assessment, upon which the decision and FONSI were made, was available for public comment for 30 days on April 19, 2004. One response was received and addressed on the document.

ADDRESSES: The Decision Notice and FONSI will be available for public inspection Monday through Friday, 8 a.m. through 4 p.m. at the GWMP Headquarters, Turkey Run Park, McLean, Virginia. The FONSI can also be viewed on the GWMP Web site at http://www.nps.gov/gwmp.

SUPPLEMENTARY INFORMATION: The Decision Notice and FONSI completes the Environmental Assessment process.

FOR FURTHER INFORMATION CONTACT: Ms. Sarah Koenen (703) 289-2540.

Dated: September 3, 2004.
Jon James,
Deputy Superintendent, George Washington Memorial Parkway.

[FR Doc. 04-24173 Filed 10-28-04; 8:45 am]

BILLING CODE 4310-70-P